DEPARTMENT OF JUSTICE

Antitrust Division

Notice Pursuant to The National Cooperative Research and Production Act of 1993—Technologies for Target Assessment

Notice is hereby given that, on August 1, 2002, pursuant to Section 6(a) of the National Cooperative Research and Production Act of 1993, 15 U.S.C. 4301 et seq. (“the Act”), Technologies for Target Assessment has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Paradigm Genetics, Inc., Research Triangle Park, NC; and LION Bioscience, Cleveland, OH. The nature and objectives of the venture are to assemble and develop a software suite and data solution that allows users to better identify targets of lead compound discovery and product development by integrating large streams of biological and biochemical data from heterogeneous sources into coherent data sets that accurately represent underlying biological relationships. If successful, the project will lead to a Target Assessment Technologies Suite (TATS) of software and database products applicable to any organism or cell culture system. TATS goes beyond data integration to allow researchers to create, validate and analyze coherent data sets to identify high quality targets. The ability to compare data across multiple research platforms in a way that is biologically relevant and statistically sound will greatly improve the ability to identify gene function and increase the number of product leads that succeed in clinical trials in the pharmaceutical and agrochemical industries.

Constance K. Robinson,
Director of Operations, Antitrust Division.

[FR Doc. 02-23112 Filed 9-11-02; 8:45 am]

BILLING CODE 4410-11-M